DEPARTMENT OF EDUCATION

Application Deadline for Fiscal Year 2023; Small, Rural School Achievement Program

AGENCY: Office of Elementary and Secondary Education, Department of Education.

ACTION: Notice.

SUMMARY: Under the Small, Rural School Achievement (SRSA) program, Assistance Listing Number 84.358A, the U.S. Department of Education (Department) awards grants on a formula basis to eligible local educational agencies (LEAs) to address the unique needs of rural school districts. In this notice, we establish the deadline and describe the application process for the fiscal year (FY) 2023 SRSA grant. This notice relates to the approved information collection under Office of Management and Budget (OMB) control number 1810-0646. All LEAs eligible for FY 2023 SRSA funds must apply electronically via the process described in this notice by the deadline listed below.

DATES:

Applications Available: February 8, 2023.

Deadline for Transmittal of Applications: April 14, 2023.

Application Technical Assistance: The Department will announce application technical assistance opportunities for applicants when the application becomes available.

FOR FURTHER INFORMATION CONTACT: Leslie Poynter, REAP Group Leader, U.S. Department of Education, 400 Maryland Avenue SW, Washington, DC 20202. Telephone: (202) 401-0039. Email: reap@ed.gov.

If you are deaf, hard of hearing, or have a speech disability and wish to access telecommunications relay services, please dial 7-1-1.

SUPPLEMENTARY INFORMATION:

I. Award Information

Type of Award: Formula grant.

Available Funds: $107,500,000.

Estimated Range of Awards: $0-$60,000.

Note: The amount of an LEA's award depends on the number of eligible LEAs in a given year, the number of eligible LEAs that complete the SRSA application, and the amount of funds Congress appropriates for the program. Some eligible LEAs may receive an SRSA allocation of $0 due to the statutory funding formula and, in that case, will not be invited to submit an application.

Estimated Number of Awards: 4,215.

II. Program Authority and Eligibility Information

Under what statutory authority will FY 2023 SRSA grant awards be made?

The FY 2023 SRSA grant awards will be made under title V, part B, subpart 1 of the Elementary and Secondary Education Act of 1965 (ESEA), 20 U.S.C. 7345-7345a.

Which LEAs are eligible for an award under the SRSA program?

For FY 2023, an LEA (including a public charter school that meets the definition of LEA in section 8101(30) of the ESEA) is eligible for an award under the SRSA program if it meets both of the criteria below:

(a) The total number of students in average daily attendance at all of the schools served by the LEA is fewer than 600, or each county in which a school served by the LEA is located has a total population density of fewer than 10 persons per square mile; and

(b) All of the schools served by the LEA are designated with a school locale code of 41, 42, or 43 by the Department's National Center for Education Statistics (NCES), or the Secretary has determined, based on a demonstration by the LEA and concurrence of the State educational agency, that the LEA is located in an area defined as rural by a governmental agency of the State.

The Department provides an eligibility spreadsheet listing each LEA eligible to apply for FY 2023 SRSA grant funds. The spreadsheet is available on the Department's website at https://oese.ed.gov/offices/office-of-formula-grants/rural-insular-native-achievement-programs/rural-education-achievement-program/small-rural-school-achievement-program/eligibility/.

If an LEA will close prior to the 2023-2024 school year, that LEA is not eligible to receive an FY 2023 SRSA award and should not apply.

Note: The “Choice of Participation” provision under section 5225 of the ESEA gives an LEA eligible for both SRSA and the Rural and Low-Income School (RLIS) program, which is authorized under title V, part B, subpart 2 of the ESEA, the option to participate in either the SRSA program or the RLIS program. 20 U.S.C. 7351d. An LEA eligible for both SRSA and RLIS is henceforth referred to as a “dual-eligible LEA.”

Which eligible LEAs must submit an application to receive an FY 2023 SRSA grant award?

Under 34 CFR 75.104(a), the Secretary makes a grant only to an eligible entity that submits an application.

In FY 2023, each LEA eligible to receive an SRSA award is required to submit an SRSA application in order to receive SRSA funds, regardless of whether the LEA received an award or submitted an application in a previous year. This requirement applies to all eligible LEAs, including each dual-eligible LEA that chooses to participate in the SRSA program instead of the RLIS program and each SRSA-eligible LEA that is a member of an educational service agency (ESA) that does not receive SRSA funds on the LEA's behalf. In the case of an SRSA-eligible LEA that is a member of an SRSA-eligible ESA, the LEA and ESA must coordinate directly with each other to determine which entity will submit an SRSA application on the LEA's behalf, as both entities may not apply for or receive SRSA funds for the LEA. As noted above, pursuant to section 5225 of the ESEA, a dual-eligible LEA that applies for SRSA funds may not receive an RLIS award.

A separate application must be submitted for each eligible LEA. For example, if a rural community has two distinct LEAs—one composed of its elementary school(s) and one composed of its high school(s)—each distinct LEA must submit its own SRSA application with the LEA's own Unique Entity Identifier (UEI) in accordance with the guidance provided in 2 CFR part 25 (available at the following web page: https://www.ecfr.gov/current/title-2/subtitle-A/chapter-I/part-25).

The UEI is a 12-character alphanumeric code assigned to an entity by the System for Award Management (SAM), the Government's primary registrant database. The UEI is the primary means of entity identification for Federal awards. The process of obtaining and registering a UEI through SAM's online platform, https://sam.gov/content/home, is entirely free to LEAs. To further assist you with registering in SAM or updating your existing SAM registration, see the Quick Start Guide for Grant Registrations and the Entity Registration Video at https://sam.gov/content/entity-registration. You may also review the resources or utilize the live chat function on the following Federal Service Desk website: https://www.fsd.gov/gsafsd_sp. An LEA must update its SAM registration annually, and the Department recommends that an LEA begin the SAM registration or re-activation process early to prevent delays in accessing any awarded SRSA funds. Note, an LEA that receives an SRSA award must have a UEI with an active registration status in SAM to access its SRSA grant funds. An LEA may not receive an SRSA award until it has a UEI with an active registration status in SAM.

III. Application and Submission Information

Note: Since FY 2020, the SRSA grant application is no longer housed on the Grants.gov platform. Please see below for the updated application process.

Electronic Submission of Applications Using MAX.gov:

The Department will send an email with a unique application link on February 8, 2023, to each LEA that is eligible and estimated to receive a positive allocation for an FY 2023 SRSA grant award. The email will include detailed instructions for completing the electronic application via the Office of Management and Budget (OMB) MAX Survey platform.

An eligible LEA must submit an electronic application via OMB MAX Survey by April 14, 2023, to be assured of receiving an FY 2023 SRSA grant award. The Department may consider applications submitted after the deadline to the extent practicable and contingent upon the availability of funding.

Please note the following:

• We estimate that it will take 30 minutes to complete the application. We strongly recommend that you do not wait until the application deadline date to begin the application process, however.

• The FY 2023 SRSA application incorporates minor revisions approved through a revised information collection; applicants are encouraged to read the application instructions thoroughly and participate in technical assistance opportunities offered by the Department that will be announced when the application becomes available. To better ensure applications are processed in a timely, accurate, and efficient manner, eligible LEAs will receive periodic emails reminding them to complete the SRSA application prior to the April 14, 2023, deadline.

• An application received by OMB MAX Survey is dated and time-stamped upon submission, and an applicant will receive a confirmation email after the application is submitted.

• If any applicant information changes (e.g., address or contact information for the LEA) after an application has been submitted via OMB MAX Survey, the applicant must contact REAP staff directly by emailing reap@ed.gov to update such information.

Application Deadline Date Extension in Case of Technical Issues with OMB MAX Survey:

If you are unable to submit an application by April 14, 2023, because of technical issues with OMB MAX Survey, contact REAP staff by emailing reap@ed.gov within 5 business days and provide an explanation of the technical problem you experienced. The late application will be accepted as having met the deadline if REAP program staff can confirm that a technical issue occurred with the OMB MAX Survey system that affected your ability to submit the application by the deadline. As noted above, if you submit the application after the deadline and the late submission is not due to a technical issue about which you have notified REAP program staff, the Department may consider your application to the extent practicable and contingent upon the availability of funding.

IV. Other Procedural Requirements

System for Award Management (SAM):

To do business with the Department, an entity must maintain an active registration in the SAM, the Federal Government's primary registrant database, using the following information:

a. UEI.

b. Legal business name.

c. Physical address associated with the UEI.

d. Taxpayer identification number (TIN).

e. Taxpayer name associated with the TIN.

f. Bank information to set up Electronic Funds Transfer (EFT) (i.e., routing number, account number, and account type (checking/savings)).

V. Acessibility Information and Program Authority

Accessible Format: Upon request to the REAP Group Leader (using the email or phone number provided in the FOR FURTHER INFORMATION CONTACT section above), individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at https://www.govinfo.gov/. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Program Authority: Sections 5211-5212 of the ESEA, 20 U.S.C. 7345-7345a.

James F. Lane,
Senior Advisor, Office of the Secretary, delegated the authority to perform the functions and duties of the Assistant Secretary, Office of Elementary and Secondary Education.

[FR Doc. 2023-02606 Filed 2-6-23; 8:45 am]

BILLING CODE 4000-01-P